DEPARTMENT OF THE INTERIOR

Fish and Wildlife Service

[FWS-R8-ES-2020-N027; FXES11140800000-201-FF08ECAR00]

Receipt of Application for Renewal of the Incidental Take Permit; Low-Effect Habitat Conservation Plan for the Endangered San Diego Fairy Shrimp, San Diego County, California

AGENCY: Fish and Wildlife Service, Interior.

ACTION: Notice of receipt of permit renewal application; request for comments.

SUMMARY: We, the U.S. Fish and Wildlife Service (Service), have received an application from Main 16, LP for the renewal of an incidental take permit pursuant to the Endangered Species Act. The applicant has requested a renewal that will extend permit authorization by 5 years from the date the permit is reissued. If renewed, no additional take above the original authorized limit of four basins (0.01 acre of ponded area) of habitat will be authorized. The permit would authorize take of the federally endangered San Diego fairy shrimp, incidental to otherwise lawful activities associated with the low-effect habitat conservation plan for the Main 16, Limited Partnership Project. We invite the public and local, State, Tribal, and Federal agencies to comment on the application, which includes the applicant's proposed HCP and the Service's preliminary determination that this HCP qualifies as “low-effect,” categorically excluded, under the National Environmental Policy Act. To make this determination, we used our environmental action statement and low-effect screening form, both of which are also available for public review.

DATES: We must receive your written comments on or before May 28, 2020.

ADDRESSES: Obtaining Documents: You may obtain copies of the documents by the following methods:

• Internet: https://www.fws.gov/carlsbad/HCPs/HCP_Docs.html.

• Telephone: 760-431-9440.

• U.S. Mail: Field Supervisor, Carlsbad Fish and Wildlife Office, U.S. Fish and Wildlife Service, 2177 Salk Avenue, Suite 250, Carlsbad, CA 92008.

Submitting Comments: You may submit comments by one of the following methods. Please include “Main 16, LP” at the beginning of your comments.

• U.S. Mail: Carlsbad Fish and Wildlife Office (address above).

• Email: fw8cfwocomments@fws.gov.

FOR FURTHER INFORMATION CONTACT: Mr. David A. Zoutendyk, Acting Assistant Field Supervisor, Carlsbad Fish and Wildlife Office, 760-431-9440. If you use a telecommunications device for the deaf (TDD), please call the Federal Relay Service (FRS) at 800-877-8339.

SUPPLEMENTARY INFORMATION: We, the U.S. Fish and Wildlife Service (Service), have received an application from Main 16, Limited Partnership (applicant) to renew incidental take permit TE74483B-0 under the Endangered Species Act of 1973, as amended (ESA; 16 U.S.C. 1531 et seq.). The applicant has requested a renewal that would extend permit authorization by 5 years from the date the permit is reissued. The existing permit is valid from August 26, 2015, to August 26, 2020. The applicant has agreed to follow all of the existing habitat conservation plan (HCP) conditions. If the permit is renewed, no additional take above the original authorized limit of four basins (0.01 acre of ponded area) of habitat will be authorized. The permit would authorize take of the federally endangered San Diego fairy shrimp (Branchinecta sandiegonensis), incidental to otherwise lawful activities associated with the low-effect HCP for the Main 16, Limited Partnership Project.

We invite the public and local, State, Tribal, and Federal agencies to comment on the application, which includes the applicant's proposed HCP and the Service's preliminary determination that this HCP qualifies as “low-effect,” categorically excluded, under the National Environmental Policy Act. To make this determination, we used our environmental action statement and low-effect screening form, both of which are also available for public review.

Background

The San Diego fairy shrimp was listed by the Service as endangered on February 3, 1997 (62 FR 4925). Section 9 of the ESA and its implementing Federal regulations prohibit the take of animal species listed as endangered or threatened. “Take” is defined under the ESA as to “harass, harm, pursue, hunt, shoot, wound, kill, trap, capture, or collect [listed animal species], or to attempt to engage in such conduct” (16 U.S.C. 1538). “Harm” includes significant habitat modification or degradation that actually kills or injures listed wildlife by significantly impairing essential behavioral patterns, such as breeding, feeding, or sheltering (50 CFR 17.3). However, under section 10(a) of the ESA, the Service may issue permits to authorize incidental take of listed species. “Incidental taking” is defined by the ESA implementing regulations as taking that is incidental to, and not the purpose of, carrying out an otherwise lawful activity (50 CFR 17.3). Regulations governing incidental take permits for endangered and threatened species, respectively, are found in the Code of Federal Regulations at 50 CFR 17.22 and 50 CFR 17.32. Issuance of an incidental take permit also must not jeopardize the existence of federally listed fish, wildlife, or plan species. All species included in the incidental take permit would receive assurances under our “No Surprises” regulations (50 CFR 17.22(b)(5) and 17.32(b)(5)).

The applicant has applied for the renewal of their permit for incidental take of the endangered San Diego fairy shrimp. The potential taking would occur by activities associated with the construction of a commercial development (as defined in the HCP) in an area that supports suitable habitat for the covered species. The project is located on a 2.5-acre property on Main Street in the Ramona area of unincorporated San Diego County, California. The applicant purchased two vernal pool/basin with fairy shrimp conservation credits (i.e., 0.2 acre of vernal pool basin and 1.8 acres of associated watershed) at the Ramona Grasslands Conservation Bank as specified in the project's conservation measures. An incidental take permit was first issued for the HCP on August 26, 2015.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10 of the ESA (16 U.S.C. 1531 et seq.).

Scott Sobiech,
Field Supervisor, Carlsbad Fish and Wildlife Office, Carlsbad, California.

[FR Doc. 2020-07691 Filed 4-10-20; 8:45 am]

BILLING CODE 4333-15-P